DEPARTMENT OF COMMERCE

Foreign-Trade Zones Board

[Order No. 1401]

Expansion of Foreign-Trade Zone 26; Atlanta, GA, Area

Pursuant to its authority under the Foreign-Trade Zones Act of June 18, 1934, as amended (19 U.S.C. 81a-81u), the Foreign-Trade Zones Board (the Board) adopts the following order:

Whereas, the Georgia Foreign-Trade Zone, Inc., grantee of Foreign-Trade Zone 26, submitted an application to the Board for authority to expand FTZ 26 to include seven sites (Sites 4-10) within the Muscogee Technology Park and at the Corporate Ridge/Columbus East Industrial Park in Columbus; within the Green Valley Industrial Park, at the Hudson Industrial Park and at the I-75 Industrial Park in Griffin; at the Hamilton Mill Business Center in Buford; and, at the ProLogis Park Greenwood in McDonough, Georgia, within and adjacent to the Atlanta Customs port of entry (FTZ Docket 44-2004; Filed 9/22/04);

Whereas, notice inviting public comment was given in the Federal Register (69 FR 58127, 9/29/04) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 26 is approved, subject to the Act and the Board's regulations, including Section 400.28, and subject to the Board's standard 2,000-acre activation limit for the overall zone project.

Signed at Washington, DC, this 8th day of July, 2005.
Joseph A. Spetrini,
Acting Assistant Secretary of Commerce for Import Administration, Alternate Chairman, Foreign-Trade Zones Board.

[FR Doc. 05-14075 Filed 7-15-05; 8:45 am]

BILLING CODE 3510-DS-M